SMALL BUSINESS ADMINISTRATION

[Declaration of Disaster # 3599]

State of Maryland

Cecil County and the contiguous counties of Harford and Kent in the State of Maryland; New Castle County in the State of Delaware; and Chester and Lancaster Counties in the Commonwealth of Pennsylvania constitute a disaster area as a result of flooding that occurred on July 12 and 13, 2004. Applications for loans for physical damage as a result of the disaster may be filed until the close of business on September 21, 2004 and for economic injury until the close of business on April 25, 2005 at the address listed below or other locally announced locations: U.S. Small Business Administration, Disaster Area 1 Office, 360 Rainbow Blvd., South 3rd Floor, Niagara Falls, NY 14303.

The interest rates are:

| Percent
For Physical Damage:
Homeowners With Credit Available Elsewhere | 5.750
Homeowners Without Credit Available Elsewhere | 2.875
Businesses With Credit Available Elsewhere | 5.500
Businesses and Non-Profit Organizations Without Credit Available Elsewhere | 2.750
Others (Including Non-Profit Organizations) With Credit Available Elsewhere | 4.875
For Economic Injury:
Businesses and Small Agricultural Cooperatives Without Credit Available Elsewhere | 2.750

The number assigned to this disaster for physical damage is 359906 for Maryland, 360006 for Delaware, and 360106 for Pennsylvania. The number assigned to this disaster for economic injury is 9ZM800 for Maryland, 9ZM900 for Delaware, and 9ZN100 for Pennsylvania.

(Catalog of Federal Domestic Assistance Program Nos. 59002 and 59008)

Dated: July 23, 2004.
Hector V. Barreto,
Administrator.

[FR Doc. 04-17433 Filed 7-29-04; 8:45 am]

BILLING CODE 8025-01-P